DEPARTMENT OF AGRICULTURE

Submission for OMB Review; Comment Request

May 10, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Certificate for Quota Eligibility (CQE).

OMB Control Number: 0551-0014.

Summary of Collection: 5 (a)(i) of the Harmonized Tariff Schedule of the United States authorize the Secretary to establish a raw-cane sugar tariff-rate quota (TRQ). 5 (b)(1) authorize the U.S. Trade Representative to allocate the raw-cane sugar tariff-rate quota among supplying countries. Certificates of Quota Eligibility (CQE) are issued to the 40 countries that receive TRQ allocations to export sugar to the United States. The CQE is completed by the certifying authority in the foreign country that certifies that the sugar being exported to the United States was produced in the foreign country that has the TRQ allocation. The Foreign Agriculture will collect information using form FSA-961.

Need and Use of the Information: FAS will collect the following information: (1) Country of origin or area of the eligible raw cane sugar; (2) quota period; (3) quantity of raw cane sugar to be exported; (4) details of the shipment (shipper, vessel, port of loading); and (5) additional details if available at the time of shipment (consignee, address of consignee, expected date of departure, expected date of arrival in the U.S., expected port of arrival). The information will help determine if the quantity to be imported is eligible to be entered under the TRQ.

Description of Respondents: Business or other for-profit.

Number of Respondents: 40.

Frequency of Responses: Reporting: On occasion.

Total Burden Hours: 200.

Ruth Brown,
Departmental Information Collection Clearance Officer.

[FR Doc. 2010-11513 Filed 5-13-10; 8:45 am]

BILLING CODE 3410-10-P